NATIONAL ARCHIVES AND RECORDS ADMINISTRATION

[NARA-2018-059]

Advisory Committee on Presidential Library-Foundation Partnerships

AGENCY: National Archives and Records Administration (NARA).

ACTION: Notice of advisory committee meeting.

SUMMARY: We are announcing the following Federal advisory committee meeting.

DATES: Wednesday, September 26, 2018, from 9:00 a.m. to 12:00 noon.

ADDRESSES: Gerald R. Ford Presidential Museum; DeVos Learning Center; 303 Pearl Street NW; Grand Rapids, MI.

FOR FURTHER INFORMATION CONTACT: Denise LeBeck, by mail at National Archives and Records Administration; 8601 Adelphi Road, Suite 2200; College Park, MD 20721, by telephone at 301-837-3250, or by email at denise.lebeck@nara.gov.

SUPPLEMENTARY INFORMATION: We are announcing this meeting in accordance with the Federal Advisory Committee Act, as amended (5 U.S.C. appendix 2. The purpose of the meeting is to discuss Presidential Library program and public-private partnership between Presidential Libraries and Presidential Foundations topics. The meeting will be open to the public.

Meeting attendees enter through the Gerald R. Ford Presidential Museum's front door (Pearl Street entrance). There is free parking available in the Museum's visitor parking lot. If full, there are commercial parking lots and metered street parking nearby.

Miranda J. Andreacchio,
Committee Management Officer.

[FR Doc. 2018-20007 Filed 9-13-18; 8:45 am]

BILLING CODE 7515-01-P